SECURITIES AND EXCHANGE COMMISSION

[File No. 500-1]

In the Matter of America West Resources, Inc., Sonoma Valley Bancorp, and WorldStar Energy, Corp.; Order of Suspension of Trading

May 28, 2015.

It appears to the Securities and Exchange Commission that there is a lack of current and accurate information concerning the securities of America West Resources, Inc. (CIK No. 867687), a Nevada corporation with its principal place of business listed as Salt Lake City, Utah, with stock quoted on OTC Link (previously, “Pink Sheets”) operated by OTC Markets Group, Inc. (“OTC Link”) under the ticker symbol AWSRQ, because it has not filed any periodic reports since the period ended June 30, 2012. On September 13, 2013, America West Resources received a delinquency letter sent by the Division of Corporation Finance requesting compliance with their periodic filing obligations.

It appears to the Securities and Exchange Commission that there is a lack of current and accurate information concerning the securities of Sonoma Valley Bancorp (CIK No. 1120427), a California corporation with its principal place of business listed as Sonoma, California, with stock quoted on OTC Link under the ticker symbol SBNK, because it has not filed any periodic reports since the period ended June 30, 2010. On June 28, 2013, Sonoma Valley Bancorp received a delinquency letter sent by the Division of Corporation Finance requesting compliance with their periodic filing obligations.

It appears to the Securities and Exchange Commission that there is a lack of current and accurate information concerning the securities of WorldStar Energy, Corp. (CIK No. 1093677), a revoked Nevada corporation with its principal place of business listed as Wanchai, Hong Kong, with stock quoted on OTC Link under the ticker symbol WSTR, because it has not filed any periodic reports since the period ended June 30, 2011. On May 29, 2013, WorldStar Energy received a delinquency letter sent by the Division of Corporation Finance requesting compliance with their periodic filing obligations.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 28, 2015, through 11:59 p.m. EDT on June 10, 2015.

By the Commission.
Jill M. Peterson,
Assistant Secretary.

[FR Doc. 2015-13320 Filed 5-28-15; 11:15 am]

BILLING CODE 8011-01-P